DEPARTMENT OF AGRICULTURE

Rural Housing Service

Rural Business—Cooperative Service

Rural Utilities Service

Farm Service Agency

7 CFR Part 1924

Construction and Repair

CFR Correction

In Title 7 of the Code of Federal Regulations, Parts 1760 to 1939, revised as of January 1, 2015, on page 579, in part 1924, subpart A, exhibit J, under Part B, remove the first paragraph C.1. under IV. Accessory Structures and Related Facilities.

[FR Doc. 2015-33037 Filed 12-30-15; 8:45 am]

BILLING CODE 1505-01-D